DEPARTMENT OF COMMERCE

Foreign-Trade Zones Board

[T-1-2005]

Foreign-Trade Zone 61 San Juan, Puerto Rico, Application for Temporary/Interim Manufacturing Authority, Shell Chemicals Yabucoa, Inc., (Petrochemical Complex), Notice of Approval

On February 11, 2005, an application was filed by the Executive Secretary of the Foreign-Trade Zones (FTZ) Board by the Puerto Rico Trade and Exports Company, grantee of FTZ 61, requesting temporary/interim manufacturing (T/IM) authority for certain petroleum and petrochemical products within Subzone 61I, at the Shell Chemicals Yabucoa, Inc. petrochemical complex in Yabucoa, Puerto Rico.

The application has been processed in accordance with T/IM procedures, as authorized by FTZ Board Order 1347, including notice in the Federal Register inviting public comment (70 FR 9614-9615, 2/28/05). The FTZ staff examiner reviewed the application and determined that it meets the criteria for approval under T/IM procedures. Pursuant to the authority delegated to the FTZ Board Executive Secretary in Board Order 1347, the application is approved, effective this date, until April 11, 2007, subject to the FTZ Act and the Board's regulations, including Section 400.28.

Dated: April 11, 2005.
Dennis Puccinelli,
Executive Secretary.

[FR Doc. 05-7792 Filed 4-18-05; 8:45 am]

BILLING CODE: 3510-DS-S